DEPARTMENT OF HEALTH AND HUMAN SERVICES

National Institues of Health

National Institute on Deafness and Other Communication Disorders; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal infromation concerning individuals associated with the grant applications, the disclosure of which would constitute a clearly unwarranted invasion of personal privacy.

Name of Committee: Communication Disorders Review Committee.

Date: February 14-15, 2008.

Time: February 14, 2008, 8 a.m. to 5 p.m.

Agenda: To review and evaluate grant applications.

Place: Wyndham Phoenix, 50 East Adams Street, Phoenix, AZ 85004.

Time: February 15, 2008, 8 a.m. to 5 p.m.

Agenda: To review and evaluate grant applications.

Place: Wyndham Phoenix, 50 East Adams Street, Phoenix, AZ 85004.

Contact Person: Shiguang Yang, DVM, PhD, Scientific Review Administrator, Scientific Review Branch, Division of Extramural Activities, NIDCD, NIH, 6120 Executive Blvd., Suite 400C, Bethesda, MD 20892, 301-435-1425, yangshi@nidcd.nih.gov.

Name of Committee: National Institute on Deafness and Other Communication Disorders Special Emphasis Panel; Hearing and Balance Small Grant Review.

Date: February 27, 2008.

Time: 8 a.m. to 1:30 p.m.

Agenda: To review and evaluate grant applications.

Place: Hyatt Regency Bethesda, One Bethesda Metro Center, 7400 Wisconsin Avenue, Bethesda, MD 20814.

Contact Person: Christopher A. Moore, PhD, Scientific Review Adminstrator, Scientific Review Branch, Division of Extramural Activities, 6120 Executive Blvd., Rm 400C, Bethesda, MD 20892-7180, 301-402-3587, moorechristopher@nidcd.nih.gov.

Name of Committee: National Institute on Deafness and Other Communication Disorders Special Emphasis Panel; Chemical Senses Small Grant Review.

Date: February 29, 2008.

Time: 11:30 a.m. to 1:30 p.m.

Agenda: To review and evaluate grant applications.

Place: National Institutes of Health, 6120 Executive Blvd., Rockville, MD 20852 (Telephone Conference Call).

Contact Person: Christopher A Moore, PhD, Scientific Review Administrator, Scientific Review Branch, Division of Extramural Activities, 6120 Executive Blvd., Rm 400C, Bethesda, MD 20892-7180, 301-402-3587, moorechristopher@nidcd.nih.gov.

(Catalogue of Federal Domestic Assistance Program Nos. 93.173, Biological Research Related to Deafness and Communicative Disordes, National Institute of Health, HHS)

Dated: January 16, 2008.
Jennifer Spaeth,
Director, Office of Federal Advisory Committee Policy.

[FR Doc. 08-274 Filed 1-24-08; 8:45 am]

BILLING CODE 4140-01-M